DEPARTMENT OF ENERGY

Federal Energy Regulatory Commission

[Project Nos. P-2114-116, P-2145-000, P-2244-000]

Priest Rapids, Rocky Reach, Packwood Lake; Notice of Meetings

June 15, 2004.

The Director of the Office of Energy Projects of the Federal Energy Regulatory Commission is scheduled to meet with representatives of Indian tribes with an interest in one or more of the following three hydropower licensing proceedings: Priest Rapids Project No. 2114-116, Rocky Reach Project No. 2145, and Packwood Lake Project No. 2244. Meetings will be held with the following tribes at the locations and times listed below:

Confederated Tribes of the Colville Reservation: June 28, 2004, 9:30 a.m. (P.s.t.), Boardroom, Best Western Lincoln Inn Suite, 211 Umptanum Road, Ellensburg, WA 98926.

Confederated Tribes of Warm Springs and Wanapum Tribe: June 28, 2004, 1 p.m. (P.s.t.), Boardroom, Best Western Lincoln Inn Suite, 211 Umptanum Road, Ellensburg, WA 98926.

Confederated Tribes and Bands of the Yakama Nation: June 29, 2004, 8:30 a.m. (P.s.t.), Tribal Council Chambers, Yakama Agency Building, 401 Fort Road, Toppenish, WA 98948.

Confederated Tribes of the Umatilla Reservation: June 29, 2004, 3:30 p.m. (P.s.t.), Tribal Board Office, 73239 Confederated Way (Old Mission Highway), Pendleton, OR 97801.

Members of the public and intervenors in the referenced proceedings may attend these meetings; however, participation will be limited to tribal representatives and the Commission representatives. If you plan to attend any of these meetings, please contact Dr. Frank Winchell at the Federal Energy Regulatory Commission. He can be reached at 202-502-6104. All meetings will be transcribed by a court reporter, and transcripts will be made available by the Commission after the meetings.

Magalie R. Salas,
Secretary.

[FR Doc. E4-1386 Filed 6-22-04; 8:45 am]

BILLING CODE 6717-01-P